DEPARTMENT OF AGRICULTURE

Forest Service

50 CFR Part 242

DEPARTMENT OF THE INTERIOR

Fish and Wildlife Service

50 CFR Part 100

[FWS-R7-SM-2013-0126; FXFR13350700640-145-FF07J00000]

Subsistence Management Program for Public Lands in Alaska; Rural Determination Process

AGENCIES: Forest Service, Agriculture; Fish and Wildlife Service, Interior.

ACTION: Advanced notice of proposed rulemaking; extension of comment period.

SUMMARY: The Federal Subsistence Board is extending the comment period through December 2, 2013, on its earlier request for comments (77 FR 77005, Dec. 31, 2012) on the rural determination process. These comments will be used by the Board, coordinating with the Secretaries of the Interior and Agriculture, to assist in making decisions regarding the scope and nature of possible changes to improve the rural determination process.

DATES: Comments: The comment period for the document published December 31, 2012 (77 FR 77005), is extended through, and comments must be received or postmarked by, December 2, 2013.

Public meetings: The Federal Subsistence Regional Advisory Councils, through the Board, has rescheduled public meetings to receive comments and make recommendations to the Federal Subsistence Board on this notice on several dates between November 5 and November 19, 2013. See Public Meetings under SUPPLEMENTARY INFORMATION for specific information on dates and locations of the public meetings.

ADDRESSES: Comments: Comments on this extension must be received or postmarked by December 2, 2013. You may submit comments by one of the following methods:

• Electronically: Comments addressing this notice may be sent to subsistence@fws.gov.

• By hard copy: U.S. mail or hand-delivery to: USFWS, Office of Subsistence Management, 1011 East Tudor Road, MS 121, Attn: Theo Matuskowitz, Anchorage, AK 99503-6199, or hand delivery to the Designated Federal Official attending any of the Federal Subsistence Regional Advisory Council public meetings.

Comments received will be available for public review during public meetings held by the Board on this issue. This generally means that any personal information you provide us will be available during public review.

Public meetings: See SUPPLEMENTARY INFORMATION for specific information on dates and locations of the public meetings. If the Board decides additional meetings are required, public announcements will be made that provide meeting dates and locations.

FOR FURTHER INFORMATION CONTACT: Chair, Federal Subsistence Board, c/o U.S. Fish and Wildlife Service, Attention: Gene Peltola, Office of Subsistence Management; (907) 786-3888; or subsistence@fws.gov. For questions specific to National Forest System lands, contact Steve Kessler, Regional Subsistence Program Leader, USDA, Forest Service, Alaska Region; (907) 743-9461; or skessler@fs.fed.us.

SUPPLEMENTARY INFORMATION:

Background

Under Title VIII of the Alaska National Interest Lands Conservation Act (ANILCA) (16 U.S.C. 3111-3126), the Secretary of the Interior and the Secretary of Agriculture (Secretaries) jointly implement the Federal Subsistence Management Program. This Program provides a priority for taking of fish and wildlife resources for subsistence uses on Federal public lands and waters in Alaska. The Secretaries published temporary regulations to implement this Program in the Federal Register on June 29, 1990 (55 FR 27114), and final regulations in the Federal Register on May 29, 1992 (57 FR 22940). The Secretaries have amended these regulations a number of times. Because this Program is a joint effort between Interior and Agriculture, these regulations are located in two titles of the Code of Federal Regulations (CFR): Title 36, “Parks, Forests, and Public Property,” and Title 50, “Wildlife and Fisheries,” at 36 CFR 242.1-28 and 50 CFR 100.1-28, respectively. The regulations contain the following subparts: Subpart A, General Provisions; Subpart B, Program Structure; Subpart C, Board Determinations; and Subpart D, Subsistence Taking of Fish and Wildlife.

Federal Subsistence Board

Consistent with subpart B of these regulations, the Secretaries established a Federal Subsistence Board to administer the Federal Subsistence Management Program. The Board comprises:

• A Chair, appointed by the Secretary of the Interior with concurrence of the Secretary of Agriculture;

• The Alaska Regional Director, U.S. Fish and Wildlife Service;

• The Alaska Regional Director, U.S. National Park Service;

• The Alaska State Director, U.S. Bureau of Land Management;

• The Alaska Regional Director, U.S. Bureau of Indian Affairs;

• The Alaska Regional Forester, U.S. Forest Service; and

• Two public members appointed by the Secretary of the Interior with concurrence of the Secretary of Agriculture.

Through the Board, these agencies and public members participate in the development of regulations for subparts C and D, which, among other things, set forth program eligibility and specific harvest seasons and limits.

In administering the program, the Secretaries divided Alaska into 10 subsistence resource regions, each of which is represented by a Federal Subsistence Regional Advisory Council. The Councils provide a forum for rural residents with personal knowledge of local conditions and resource requirements to have a meaningful role in the subsistence management of fish and wildlife on Federal public lands in Alaska. The Council members represent varied geographical, cultural, and user interests within each region.

Public Meetings

The Federal Subsistence Regional Advisory Councils have a substantial role in reviewing subsistence issues and making recommendations to the Board. The Federal Subsistence Board scheduled public meetings in conjunction with the Council meetings to accept comments on this notice during the fall meeting cycle. Due to a lapse in appropriations and the subsequent closure of the Federal Government, five preannounced Council meetings were cancelled. The Board decided that a rescheduling of the cancelled meetings was needed to allow for full public participation and discussion of regional subsistence issues. You may present comments on this notice during these rescheduled meetings at the following locations in Alaska, on the following dates:

Region 2—Southcentral Regional Council, Anchorage, November 5, 2013

Region 5—Yukon-Kuskokwim Delta Regional Council, Bethel, November 13, 2013

Region 6—Western Interior Regional Council, Fairbanks, November6, 2013

Region 7—Seward Peninsula Regional Council, Nome, November 19, 2013

Region 9—Eastern Interior Regional Council, Fairbanks, November 19, 2013

A news release will be published of specific dates, times, and meeting locations in local and statewide newspapers, and on the web at http://www.doi.gov/subsistence/index.cfm, prior to these rescheduled meetings. Locations and dates may change based on weather or local circumstances.

Tribal Consultation and Comment

As expressed in Executive Order 13175, “Consultation and Coordination with Indian Tribal Governments,” the Federal officials that have been delegated authority by the Secretaries are committed to honoring the unique government-to-government relationship that exists between the Federal Government and Federally Recognized Indian Tribes (Tribes) as listed in 75 FR 60810 (October 1, 2010). Consultation with Alaska Native corporations is based on Public Law 108-199, div. H, Sec. 161, Jan. 23, 2004, 118 Stat. 452, as amended by Public Law 108-447, div. H, title V, Sec. 518, Dec. 8, 2004, 118 Stat. 3267, which provides that: “The Director of the Office of Management and Budget and all Federal agencies shall hereafter consult with Alaska Native corporations on the same basis as Indian tribes under Executive Order No. 13175.”

The Alaska National Interest Lands Conservation Act, Title VIII (16 U.S.C. 3111-3126), does not provide specific rights to Tribes for the subsistence taking of wildlife, fish, and shellfish. However, because tribal members and Alaska Native corporations are affected by subsistence regulations, the Secretaries, through the Board, will provide Federally recognized Tribes and Alaska Native corporations an opportunity to consult. The Board provides a variety of opportunities for consultation: engaging in dialogue at the Council meetings; engaging in dialogue at the Board's meetings; and providing input in person, or by mail, email, or phone at any time during the comment period.

The Board will engage in outreach efforts for this extension notice, including a notification letter, to Tribes and Alaska Native corporations to ensure they are advised of the mechanisms by which they can participate. The Board will commit to efficiently and adequately providing an opportunity for consultation to Tribes and Alaska Native corporations prior to the adoption of any changes in policy or regulation concerning the rural determination process.

The Board will consider Tribes' and Alaska Native corporations' information, input, and recommendations, and endeavor to address their concerns.

Purpose of This Notice

In accordance with § __.10(d)(4)(ii), one of the responsibilities given to the Federal Subsistence Board is to determine which communities or areas of the State are rural or nonrural. Only residents of areas identified as rural are eligible to participate in the Federal Subsistence Management Program on Federal public lands in Alaska.

The Board determines if a community or area is rural in accordance with established guidelines set forth in § __.15(a). The Board reviews rural determinations on a 10-year cycle and may review determinations out-of-cycle in special circumstances. The Board conducts rulemaking to determine if the list at § __.23(a), which defines the rural/nonrural status of communities and/or areas, needs revision. Residents would have 5 years to comply with a rural to nonrural change. A change from nonrural to rural would be effective 30 days after publication of the rule.

On May 7, 2007, the Board published a final rule, “Subsistence Management Regulations for Public Lands in Alaska, Subpart C; Nonrural Determinations” (72 FR 25688). This rule revised the list of nonrural areas identified by the Board. The Board changed Adak's status to rural, added Prudhoe Bay to the list of nonrural areas, and adjusted the boundaries of the following nonrural areas: the Kenai Area; the Wasilla/Palmer Area, including Point McKenzie; the Homer Area, including Fritz Creek East (except Voznesenka) and the North Fork Road area; and the Ketchikan Area, including Saxman and portions of Gravina Island. The effective date was June 6, 2007, with a 5-year compliance date of May 7, 2012.

On October 23, 2009, Secretary of the Interior Salazar announced the initiation of a Departmental review of the Federal Subsistence Management Program in Alaska; Secretary of Agriculture Vilsack later concurred with this course of action. The review focused on how the Program is meeting the purposes and subsistence provisions of Title VIII of ANILCA, and how the Program is serving rural subsistence users as envisioned when it began in the early 1990s.

On August 31, 2010, the Secretaries announced the findings of the review, which included several proposed administrative and regulatory reviews and/or revisions to strengthen the Program and make it more responsive to those who rely on it for their subsistence uses. One proposal called for a review, with Council input, of the rural and nonrural determination process and, if needed, recommendations for regulatory changes.

On January 20, 2012, the Board met to consider the Secretarial directive, consider the Council's recommendations, and review all public, Tribal, and Native Corporation comments on the initial review of the rural determinations process. After discussion and careful review, the Board voted unanimously to initiate a review of the rural determination process and the 2010 decennial review. Consequently, based on that action, the Board found that it was in the public's best interest to extend the compliance date of its 2007 final rule (72 FR 25688; May 7, 2007) on rural and nonrural determinations until after the review of the rural determination process and decennial review are complete or in 5 years, whichever comes first. The Board has already published a final rule (77 FR 12477; March 1, 2012) extending the compliance date.

Due to a lapse in appropriations on October 1, 2013, and the subsequent closure of the Federal Government, preannounced public meetings and Tribal consultations to receive comments on the rural determinations process during the closure were cancelled. The Board decided that an extension to the comment period was needed to allow for the complete participation from the public and Tribes to address this issue.

Request for Input

To comply with the Secretarial directives and the Federal subsistence regulations, the Federal Subsistence Board is proceeding with a review of the rural determination process. As part of the Secretaries' commitment to open government and in accordance with Executive Order 13563, the Board requests input from the public on the rural determination process and regulations, and ways to improve them for the benefit of rural Alaskans.

The Board has identified the following components in the process for review: Population thresholds, rural characteristics, aggregation of communities, timelines, and information sources. We describe these components below and include questions for public consideration and comment.

Population thresholds. The Federal Subsistence Board currently uses several guidelines to determine whether a specific area of Alaska is rural. One guideline sets population thresholds. A community or area with a population below 2,500 will be considered rural. A community or area with a population between 2,500 and 7,000 will be considered rural or nonrural, based on community characteristics and criteria used to group communities together. Communities with populations more than 7,000 will be considered nonrural, unless such communities possess significant characteristics of a rural nature. In 2008, the Board recommended to the Secretaries that the upper population threshold be changed to 11,000. The Secretaries have taken no action on this recommendation.

(1) Are these population threshold guidelines useful for determining whether a specific area of Alaska is rural?

(2) If they are not, please provide population size(s) to distinguish between rural and nonrural areas, and the reasons for the population size you believe more accurately reflects rural and nonrural areas in Alaska.

Rural characteristics. The Board recognizes that population alone is not the only indicator of rural or nonrural status. Other characteristics the Board considers include, but are not limited to, the following: Use of fish and wildlife; development and diversity of the economy; community infrastructure; transportation; and educational institutions.

(3) Are these characteristics useful for determining whether a specific area of Alaska is rural?

(4) If they are not, please provide a list of characteristics that better define or enhance rural and nonrural status.

Aggregation of communities. The Board recognizes that communities and areas of Alaska are connected in diverse ways. Communities that are economically, socially, and communally integrated are considered in the aggregate in determining rural and nonrural status. The aggregation criteria are as follows: Do 30 percent or more of the working people commute from one community to another; do they share a common high school attendance area; and are the communities in proximity and road-accessible to one another?

(5) Are these aggregation criteria useful in determining rural and nonrural status?

(6) If they are not, please provide a list of criteria that better specify how communities may be integrated economically, socially, and communally for the purposes of determining rural and nonrural status.

Timelines. The Board reviews rural determinations on a 10-year cycle, and out of cycle in special circumstances.

(7) Should the Board review rural determinations on a 10-year cycle? If so, why; if not, why not?

Information sources. Current regulations state that population data from the most recent census conducted by the U.S. Census Bureau, as updated by the Alaska Department of Labor, shall be utilized in the rural determination process. The information collected and the reports generated during the decennial census vary between each census; as such, data used during the Board's rural determination may vary.

(8) These information sources as stated in regulations will continue to be the foundation of data used for rural determinations. Do you have any additional sources you think would be beneficial to use?

(9) In addition to the preceding questions, do you have any additional comments on how to make the rural determination process more effective?

This notice announces to the public, including rural Alaska residents, Federally recognized Tribes of Alaska, and Alaska Native corporations, the request for comments on the Federal Subsistence Program's rural determination process. These comments will be used by the Board to assist in making decisions regarding the scope and nature of possible changes to improve the rural determination process, which may include, where the Board has authority, proposed regulatory action(s) or, in areas where the Secretaries maintain purview, recommended courses of action.

Dated: October 23, 2013.
Gene Peltola,
Assistant Regional Director, U.S. Fish and Wildlife Service, Acting Chair, Federal Subsistence Board.
Steve Kessler,
Subsistence Program Leader, USDA-Forest Service.

[FR Doc. 2013-26680 Filed 11-5-13; 4:15 pm]

BILLING CODE 3410-11-P; 4310-55-P